FEDERAL COMMUNICATIONS COMMISSION

Sunshine Act Meeting

Schedule Change; Open Commission Meeting, Friday, October 28, 2005

October 28, 2005.

Please note that the time for the Federal Communications Commission Open Meeting is rescheduled from 10 a.m. to 5 p.m.

The Federal Communications Commission will consider the Agenda items listed on the Commission's Notice of October 21st at the Open Meeting on Friday, October 28, 2005, scheduled to commence at 5 p.m. in Room TW-C305, at 445 12th Street, SW., Washington, DC.

Federal Communications Commission.
Marlene H. Dortch,
Secretary.

[FR Doc. 05-21932 Filed 10-31-05; 12:12 pm]

BILLING CODE 6712-01-P